DEPARTMENT OF THE INTERIOR

Bureau of Land Management

[AZ-411-1232-FH]

Floating Permit To Change at Gila Box Riparian National Conservation Area

AGENCY: Bureau of Land Management, Interior.

ACTION: Change the permit required for floating the Gila River from a Recreation Use Permit to a Special Recreation Permit.

SUMMARY: The Federal Lands Recreation Enhancement Act (FLREA) requires that the Bureau of Land Management (BLM) change its fee collection at the Gila Box Riparian National Conservation Area (RNCA) from Recreation Use Permits to Special Recreation Permits. This change will only affect the Gila River floatboat put-in facility along the Gila River. The fee remains the same.

DATES: This change becomes effective immediately upon termination of the required 30-day public notification process following publication of this Notice.

FOR FURTHER INFORMATION CONTACT: Jeff Wilbanks, BLM Safford Field Office, 711 14th Avenue, Safford, AZ 85546; call (928) 348-4573; or e-mail Jeff_Wilbanks@blm.gov.

SUPPLEMENTARY INFORMATION: Congress passed the FLREA in 2004 as Public Law 108-447.

Dated: July 7, 2005.
Bonnie Winslow,
Acting Field Manager.

[FR Doc. 05-17506 Filed 9-1-05; 8:45 am]

BILLING CODE 4310-32-P